ENVIRONMENTAL PROTECTION AGENCY

40 CFR Part 300

[EPA-HQ-SFUND-1983-0002; FRL-9488-6]

National Oil and Hazardous Substance Pollution Contingency Plan National Priorities List: Partial Deletion of the Tar Lake Superfund Site

AGENCY: Environmental Protection Agency (EPA).

ACTION: Proposed rule.

SUMMARY: The Environmental Protection Agency (EPA) Region 5 is issuing a Notice of intent of Partial Deletion of the following two parcels of the Tar Lake Site Superfund (Site) located in Mancelona, Michigan from the National Priorities List (NPL): the non-East Tailings Area (ETA) part of property PIN 05-11-129-006-00 (41.4 acres); and the non-ETA part of property PIN 05-11-129-007-00 (33.63 acres) and requests public comments on this proposed action. The NPL, promulgated pursuant to section 105 of the Comprehensive Environmental Response, Compensation, and Liability Act (CERCLA) of 1980, as amended, is an appendix of the National Oil and Hazardous Substances Pollution Contingency Plan (NCP). EPA and the State of Michigan, through the Michigan Department of Environmental Quality, have determined that all appropriate response actions at these two parcels under CERCLA have been completed. However, this deletion does not preclude future actions under Superfund.

This partial deletion pertains only to the two property PINs listed above. The deletion of these two parcels from the Site affects all surface soils, subsurface soils, structures and groundwater within the boundaries of these parcels. In 2005, the ETA, approximately 45.49 acres, in the northeastern part of the Site, was deleted from the NPL when EPA determined that the ETA was acceptable for unrestricted use and unlimited exposure (UU/UE). The two parcels being proposed for deletion are adjacent to and south of the ETA. The current remaining areas of the Site will remain on the NPL and are not being considered for deletion as part of this action.

DATES: Comments must be received by December 12, 2011.

ADDRESSES: Submit your comments, identified by Docket ID No. EPA-HQ-SFUND-1983-0002, by one of the following methods:

• http://www.regulations.gov: Follow on-line instructions for submitting comments.

• Email: Karen Cibulskis, Remedial Project Manager, at cibulskis.karen@epa.gov or Megan McSeveney, Community Involvement Coordinator, at mcseveney.megan@epa.gov.

• Fax: Gladys Beard, Deletion Process Manager, at (312) 697-2077.

• Mail: Karen Cibulskis, Remedial Project Manager, U.S. Environmental Protection Agency (SR-6J), 77 West Jackson Boulevard, Chicago, IL 60604, (312) 886-1843, or Megan McSeveney, Community Involvement Coordinator, U.S. Environmental Protection Agency (SI-7J), 77 West Jackson Boulevard, Chicago, IL 60604, (312) 886-1972 or (800) 621-8431.

• Hand delivery: Megan McSeveney, Community Involvement Coordinator, U.S. Environmental Protection Agency, Region 5 (SI-7J), 77 West Jackson Boulevard, Chicago, IL 60604. Such deliveries are only accepted during the docket's normal hours of operations, and special arrangements should be made for deliveries of boxed information. The normal business hours are Monday through Friday, 8:30 a.m. to 4:30 p.m., excluding Federal holidays.

Instructions: Direct your comments to Docket ID No. EPA-HQ-SFUND-1983-0002. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov, your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket

All documents in the docket are listed in the http://www.regulations.gov index. Although listed in the index, some information is not publicly available, e.g., CBI or other information whose disclosure is restricted by statute. Certain other material, such as copyrighted material, will be publicly available only in the hard copy. Publicly available docket materials are available either electronically at http://www.regulations.gov or in hard copy at: U.S. Environmental Protection Agency—Region 5, 77 West Jackson Boulevard, Chicago, IL 60604.

Hours: Monday through Friday, 8:30 a.m. to 4:30 p.m., excluding Federal holidays.

Mancelona Public Library, 202 West State Street, Mancelona, MI 49659, (231) 587-9451.

Hours: Monday through Thursday, 9 a.m. to 8 p.m.; Friday 12 p.m. to 6 p.m.; and Saturday 9 a.m. to 5 p.m.

FOR FURTHER INFORMATION CONTACT: Karen Cibulskis, Remedial Project Manager, U.S. Environmental Protection Agency (SR-6J), 77 West Jackson Blvd.; Chicago, IL 60604, (312) 886-1843, cibulskis.karen@epa.gov.

SUPPLEMENTARY INFORMATION:

In the “Rules and Regulations” section of today's Federal Register, we are publishing a direct final notice of Partial Deletion of two parcels of the Tar Lake Superfund Site from the NPL, the non-ETA part of PIN 05-129-006-00 (41.4 acres) and the non-ETA part of PIN 05-11-129-007-00 (33.63 acres), without prior notice of intent to delete because we view this as a noncontroversial revision and anticipate no adverse comments. We have explained our reasons for these partial deletions in the preamble to the direct final notice of Partial Deletion, and those reasons are incorporated herein. If we receive no adverse comments on this partial deletion action, we will not take further action on this Notice of Intent To Delete for these two parcels. If we receive adverse comments, we will withdraw the direct final Notice of Partial Deletion of these parcels, and it will not take effect. We will, as appropriate, address all public comments in a subsequent final Notice of Partial Deletion regarding these parcels, based on this Notice of Intent To Delete. We will not institute a second comment period on this Notice of Intent To Delete. Any parties interested in commenting must do so at this time.

For additional information, see the direct final Notice of Partial Deletion regarding these parcels which is located in the Rules and Regulations section of this Federal Register.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: October 24, 2011.
Susan Hedman,
Regional Administrator, Region 5.

[FR Doc. 2011-29070 Filed 11-9-11; 8:45 am]

BILLING CODE 6560-50-P